DEPARTMENT OF TRANSPORTATION

Federal Motor Carrier Safety Administration

[Docket No. FMCSA-2007-28416]

Notice of Request for Information (RFI): Training Certification for Drivers of Longer Combination Vehicles (LCVs)

AGENCY: Federal Motor Carrier Safety Administration (FMCSA), DOT.

ACTION: Notice; request for comments.

SUMMARY: In accordance with the Paperwork Reduction Act of 1995, FMCSA announces its plan to submit the Information Collection Request (ICR) described below to the Office of Management and Budget (OMB) for review and approval and invites public comment on its proposal. Specifically, the FMCSA requests OMB's approval to revise an ICR entitled, “Training Certification for Drivers of Longer Combination Vehicles (LCVs).” This ICR is necessary due to the paperwork requirement to complete and maintain training certificates that drivers must present to prospective employers. These certificates serve as proof the drivers have successfully completed sufficient training to operate LCVs safely on our Nation's highways. Motor carriers are required to maintain a copy of the training certification in each LCV driver's qualification (DQ) file, which may be reviewed by Federal or State enforcement officials.

DATES: We must receive your comments on or before August 27, 2007.

ADDRESSES: You may submit comments identified by any of the following methods. Please identify your comments by the FMCSA docket number provided at the beginning of this notice.

• Web site: http://dms.dot.gov. Follow instructions for submitting comments to the Docket.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590 between 9 a.m. and 5 p.m., e.t., Monday through Friday, except Federal holidays.

Docket: For access to the Docket Management System (DMS) to read background documents or comments received, go to http://dms.dot.gov at any time or to the U.S. Department of Transportation, Docket Operations, M-30, West Building Ground Floor, Room W12-140, 1200 New Jersey Avenue, SE., Washington, DC 20590 between 9 a.m. and 5 p.m., e.t., Monday through Friday, except Federal holidays. The DMS is available electronically 24 hours each day, 365 days each year. If you want notification of receipt of your comments, please include a self-addressed, stamped envelope, or postcard or print the acknowledgement page that appears after submitting comments on-line.

Privacy Act: Anyone is able to search the electronic form of all comments received into any of our dockets by the name of the individual submitting the comment (or signing the comment, if submitted on behalf of an association, business, labor union, etc.). You may review DOT's complete Privacy Act Statement in the Federal Register on April 11, 2000 (65 FR 19477), or you may visit http://dms.dot.gov.

FOR FURTHER INFORMATION CONTACT: Mr. Tom Yager, Chief of the Driver and Carrier Operations Division, Department of Transportation, Federal Motor Carrier Safety Administration, West Building 6th Floor, 1200 New Jersey Avenue, SE., Washington, DC 20590. Telephone: 202-366-5370; E-mail: MCPSD@dot.gov.

SUPPLEMENTARY INFORMATION:

Background

Section 4007(b) of the Motor Carrier Act of 1991 (Title IV of the Intermodal Surface Transportation Efficiency Act of 1991 (ISTEA), Pub. L. 102-240, 105 Stat. 1914, 2152; 49 U.S.C. 31307) requires the Secretary of Transportation to establish Federal minimum training requirements for drivers of LCVs. The responsibility for implementing the statutory requirement was subsequently delegated to FMCSA (49 CFR 1.73). The FMCSA, in a final rule entitled, “Minimum Training Requirements for Longer Combination Vehicle (LCV) Operators and LCV Driver-Instructor Requirements” adopted implementing regulations for the minimum training requirements for the operators of LCVs (see 69 FR 16722; March 30, 2004).

The 2004 final rule created an information collection burden concerning the certification of new, current and non-grandfathered LCV drivers; grandfathering those current LCV drivers who are eligible for certification; and the certification of LCV driver-instructors. The implementing regulations define an LCV as any combination of a truck-tractor and two or more semi-trailers or trailers, which operate on the National System of Interstate and Defense Highways (as defined in 23 CFR 470.107) with a GVW greater than 80,000 pounds. The purpose of this rule is to enhance the safety of LCV operations on our nation's highways.

Drivers are required to present a training certification form to prospective employers to prove they are certified to drive LCVs. Motor carriers must not allow drivers to operate LCVs without ensuring the drivers have been properly trained in accordance with the requirements under 49 CFR part 380. The training certification form provides this assurance. Motor carriers must maintain a copy of the LCV training certification form in the driver qualification file, required by 49 CFR 391.51. Motor carriers responsible for the operation of LCVs must be able to show Federal or State enforcement officials that drivers responsible for operating such LCVs are certified to do so, based on the training certificate located in their DQ files.

Title: Training Certification for Drivers of Longer Combination Vehicles.

OMB Control Number: 2126-0026.

Type of Request: Revision of a currently-approved information collection.

Respondents: Drivers who have completed the required LCV training and driver instructors responsible for conducting the required LCV training.

Estimated Number of Respondents: 1,200 drivers who complete the required LCV training each year; 6 driver instructors who complete LCV training must document their qualifications to train new LCV drivers.

Estimated Time per Response: 10 minutes for LCV drivers; 30 minutes for LCV instructors.

Expiration Date: June 30, 2007.

Frequency of Response: Annual.

Estimated Total Annual Burden: 203 hours. The FMCSA estimates that 10 minutes would be needed for newly certified LCV drivers to fulfill the information collection requirement, resulting in an annual information collection burden of 200 hours [1,200 LCV drivers × 10 minutes/60 minutes = 200 hours]. The estimated annual burden associated with instructor certification would be 3 burden hours [(2 classroom instructors × 10 minutes = 20 minutes) + (4 skills instructors × 15 minutes = 60 minutes) + (6 new instructors × 15 minute administrative burden per instructor certification = 90 minutes) = 170 minutes/60 minutes = 3 burden hours].

Definitions: The information collection requirement for the LCV training regulations under 49 CFR part 380 are applicable only to drivers of LCVs, as defined in 49 CFR 380.105. Section 380.105 defines LCV as any combination of a truck-tractor and two or more semi-trailers or trailers, which operate on the National System of Interstate and Defense Highways (defined in 23 CFR 470.107) with a gross vehicle weight greater than 80,000 pounds.

Public Comments Invited: You are asked to comment on any aspect of this information collection, including: (1) Whether the proposed collection is necessary for the FMCSA's performance; (2) the accuracy of the estimated burden; (3) ways for the FMCSA to enhance the quality, usefulness, and clarity of the collected information; and (4) ways that the burden could be minimized without reducing the quality of the collected information. The agency will summarize or include your comments in the request for OMB's clearance of this information collection.

Issued on: June 21, 2007.
D. Marlene Thomas,
Associate Administrator for Administration.

[FR Doc. E7-12551 Filed 6-27-07; 8:45 am]

BILLING CODE 4910-EX-P